DEPARTMENT OF LABOR

Employment and Training Administration

[TA-W-52,161]

Progressive Screen Engraving, Inc., North Carolina Division, Wadesboro, North Carolina; Notice of Negative Determination Regarding Application for Reconsideration

By application of August 19, 2003, a company official requested administrative reconsideration of the Department's negative determination regarding eligibility to apply for Trade Adjustment Assistance (TAA), applicable to workers and former workers of the subject firm. The denial notice was signed on July 25, 2003, and published in the Federal Register on August 14, 2003 (68 FR 48645).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Progressive Screen Engraving, Inc., North Carolina Division, Wadesboro, North Carolina was denied because the “contributed importantly” group eligibility requirement of Section 222 of the Trade Act of 1974 was not met, and there was not a shift of production to a foreign source. The “contributed importantly” test is generally demonstrated through a survey of customers of the workers' firm. The survey revealed that none of the respondents increased their purchases of imported rotary screens.

The petitioning company official states that “we have been informed by our customers that they are able to have screens made at a much cheaper price overseas.” When contacted for further customers to support this claim, the official clarified that, in fact, the rotary screens were not being imported by customers. The official elaborated that the screens were used in the production of textiles, and customers were shifting their textile production abroad. The official concluded that, because these textiles are being imported, the subject firm workers producing the rotary screens were import impacted. The petitioning official further requested a detailed explanation of what would lead to a negative decision for TAA eligibility in regard to subject firm workers under both primary and secondary impact.

In addressing the particular eligibility criteria to assess worker eligibility under primary impact, the Department is directed by current legislation to conduct an investigation to establish if the company has shifted its production to a foreign source or if imports of products like or directly competitive with those produced at the subject firm contributed importantly to subject firm layoffs. To that end, the Department obtains relevant information from the subject firm and subject firm customers. In this case, the investigation revealed that the company did not shift production and there were no increased imports of rotary screens on the part of the subject firm or its customers.

Although not applied for in the petition that instigated this investigation, workers can also apply for TAA benefits alleging “secondary impact.” In order to be eligible through this channel, the subject firm must have customers that are TAA certified, and these TAA certified customers must represent a significant portion of subject firm business. In addition, the subject firm would have to produce a component part of the product that was the basis for the customers' certification (upstream supplier), or assemble or finish a product that was the basis for certification (downstream producer). In this case however, the subject firm does not act as an upstream supplier (screens do not form a component part of textiles), nor do they act as downstream producers (screen production does not constitute performing assembling or finishing of textiles). Thus, even if the subject firm did have TAA certified customers, they would not be eligible under secondary impact.

Conclusion

After review of the application and investigative findings, I conclude that there has been no error or misinterpretation of the law or of the facts which would justify reconsideration of the Department of Labor's prior decision. Accordingly, the application is denied.

Signed at Washington, DC this 29th day of September, 2003.
Elliott S. Kushner,
Certifying Officer, Division of Trade Adjustment Assistance.

[FR Doc. 03-25709 Filed 10-9-03; 8:45 am]

BILLING CODE 4510-30-P